OVERSEAS PRIVATE INVESTMENT CORPORATION

Sunshine Act Meeting Notice

TIME AND DATE: Thursday, January 18, 2007, 9:30 a.m. (Open Portion) 9:45 a.m. (Closed Portion).

PLACE: Offices of the Corporation, Twelfth Floor Board Room, 1100 New York Avenue, NW., Washington, DC.

STATUS: Meeting Open to the Public from 9:30 a.m. to 9:45 a.m., Closed portion will commence at 9:45 a.m. (approx.)

MATTERS TO BE CONSIDERED:

1. President's Report.

2. Tribute—Collister Johnson.

3. Approval of September 21, 2006 Minutes (Open Portion).

FURTHER MATTERS TO BE CONSIDERED: (Closed to the Public 10:15 a.m.)

1. Report from Audit Committee.

2. Auditor's Report to the Board.

3. Finance Project—Afghanistan.

4. Finance Project—Russia.

5. Finance Project—Jordan.

6. Finance Project—Global.

7. Finance Project—Global.

8. Finance Project—Latin America.

9. Finance Project—Jordan.

10. Finance Project—Lebanon/Jordan/Middle East.

11. Approval of September 21, 2006 Minutes (Closed Portion).

6. Pending Major Projects.

7. Reports.

CONTACT PERSON FOR INFORMATION: Information on the meeting may be obtained from Connie M. Downs at (202) 336-8438.

Dated: January 5, 2007.
Dev Jagadesan,
Deputy General Counsel, Overseas Private Investment Corporation.

[FR Doc. 07-41 Filed 1-5-07; 11:51 am]

BILLING CODE 3210-01-M